DEPARTMENT OF HEALTH AND HUMAN SERVICES

Centers for Medicare & Medicaid Services

[CMS-1269-N6]

Medicare Program; Emergency Medical Treatment and Labor Act (EMTALA) Technical Advisory Group (TAG): Announcement of a New Member

AGENCY: Centers for Medicare & Medicaid Services (CMS), HHS.

ACTION: Notice.

SUMMARY: This notice announces the selection of a new member of the Emergency Medical Treatment and Labor Act (EMTALA) Technical Advisory Group (TAG). The purpose of the EMTALA TAG is to review regulations affecting hospital and physician responsibilities under EMTALA to individuals who come to a hospital seeking examination or treatment for medical conditions.

FOR FURTHER INFORMATION CONTACT: Beverly J. Parker, (410) 786-5320. George Morey, (410) 786-4653. Press inquiries are handled through the CMS Press Office at (202) 690-6145.

SUPPLEMENTARY INFORMATION:

I. Background

Sections 1866(a)(1)(I), 1866(a)(1)(N), and 1867 of the Social Security Act (the Act) impose specific obligations on Medicare-participating hospitals that offer emergency services. These obligations concern individuals who come to a hospital emergency department and request or have a request made on their behalf for examination or treatment for a medical condition. EMTALA applies to all these individuals, regardless of whether or not they are beneficiaries of any program under the Act. Section 1867 of the Act sets forth requirements for medical screening examinations for emergency medical conditions, as well as necessary stabilizing treatment or appropriate transfer.

Regulations implementing the EMTALA legislation are set forth at 42 CFR 489.20(l), (m), (q) and (r)(1), (r)(2), (r)(3), and 489.24. Section 945 of the Medicare Prescription Drug, Improvement, and Modernization Act of 2003 (MMA) (Pub. L. 108-173), requires that the Secretary establish a Technical Advisory Group (TAG) for advice concerning issues related to EMTALA regulations and implementation.

Section 945 of the MMA specifies that the EMTALA TAG—

• Shall review the EMTALA regulations;

• May provide advice and recommendations to the Secretary concerning these regulations and their application to hospitals and physicians;

• Shall solicit comments and recommendations from hospitals, physicians, and the public regarding implementation of such regulations; and

• May disseminate information concerning the application of these regulations to hospitals, physicians, and the public.

The EMTALA TAG, as chartered under the legal authority of section 945 of the MMA, is also governed by the provisions of the Federal Advisory Committee Act (FACA) (5 U.S.C. Appendix 2) for the selection of members and the conduct of all meetings.

In the May 28, 2004 Federal Register (69 FR 30654), we specified the statutory requirements regarding the charter, general responsibilities, and structure of the EMTALA TAG. That notice also solicited nominations for members based on the statutory requirements for the EMTALA TAG. In the August 27, 2004 Federal Register (69 FR 52699), we solicited nominations again for members in two categories (patient representatives and a State survey agency representative) for which no nominations were received in response to the May 28, 2004 Federal Register notice. In the March 15, 2005 Federal Register (70 FR 12691), we announced the inaugural meeting of the EMTALA TAG and the membership selection. That meeting was held on March 30 and 31, 2005. On May 18, 2005 (70 FR 28541) we announced the second meeting of the EMTALA TAG with a purpose to hear public testimony and consider written responses from medical societies and other organizations on specific issues considered by the EMTALA TAG at its inaugural meeting. The second TAG meeting was held on June 15, 16, and 17, 2005.

On September 23, 2005, (70 FR 55903), we announced the third meeting of the EMTALA TAG, for the purpose of enabling the EMTALA TAG to hear additional testimony and further consider written responses from medical societies and other organizations on specific issues considered by the TAG at previous meetings. The third TAG meeting is scheduled for October 26, 27, and 28, 2005

II. Selection of New EMTALA TAG Member

In the March 15, 2005 Federal Register (70 FR 12691), we announced the EMTALA TAG membership. One of those original members, a hospital representative, has been unable to complete his term of service. To enable the TAG to continue to function as required by section 945 of the MMA and to ensure that the concerns of hospitals are appropriately considered during TAG deliberations, another member has been selected to serve as a hospital representative. The new member is Rory Jaffe, M.D., M.B.A., of the University of California/Davis Medical Center. Dr. Jaffe was selected from the original list of nominees for the EMTALA TAG.

Authority: Section 945 of the Medicare Prescription Drug, Improvement, and Modernization Act of 2003 (MMA).

(Catalog of Federal Domestic Assistance Program No. 93.773, Medicare—Hospital Insurance; and Program No. 93.774, Medicare—Supplementary Medical Insurance Program)
Dated: September 23, 2005.
Mark B. McClellan,
Administrator, Centers for Medicare & Medicaid Services.

[FR Doc. 05-19484 Filed 9-29-05; 8:45 am]

BILLING CODE 4120-01-P